DEPARTMENT OF TRANSPORTATION

National Highway Traffic Safety Administration

49 CFR Part 520

[Docket No. NHTSA-2025-0160]

RIN 2127-AM35

Recission of NHTSA's 1975 Procedures for Considering Environmental Impacts

AGENCY: National Highway Traffic Safety Administration (NHTSA), Department of Transportation (DOT).

ACTION: Interim final rule; request for comments.

SUMMARY: This interim final rule rescinds the National Highway Traffic Safety Administration's (NHTSA) 1975 Procedures for Considering Environmental Impacts from the Code of Federal Regulations because they are outdated, because they were promulgated on the basis of authorities that have been rescinded, and because the Department of Transportation has promulgated updated Department-wide National Environmental Policy Act (NEPA) procedures that will guide NHTSA's NEPA process.

DATES: This interim rule is effective on July 3, 2025. Written comments must be received by August 4, 2025.

ADDRESSES: You may submit comments electronically to the docket identified in the heading of this document by visiting the Federal eRulemaking Portal at https://www.regulations.gov. Follow the online instructions for submitting comments.

Alternatively, you can file comments using the following methods:

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m., Monday through Friday, except Federal holidays. To be sure someone is there to help you, please call (202) 366-9317 or (202) 366-9826 before visiting Dockets Operations.

Regardless of how you submit your comments, you should mention the docket number identified in the heading of this document.

Instructions: All submissions must include the agency name and docket number or Regulatory Information Number (RIN) for this rulemaking. For detailed instructions on submitting comments and additional information on the rulemaking process, see the Public Participation heading of the Supplementary Information section of this document. Note that all comments received will be posted without change to https://www.regulations.gov, including any personal information provided. Please see the Privacy Act heading below.

Docket: For access to the docket to read background documents or comments received, go to https://www.regulations.gov. You may also access the docket at 1200 New Jersey Avenue SE, West Building, Room W12-140, Washington, DC 20590, between 9 a.m. and 5 p.m., Monday through Friday, except Federal Holidays. Telephone: 202-366-9826.

Confidential Business Information: If you claim that any of the information in your comment (including any additional documents or attachments) constitutes confidential business information within the meaning of 5 U.S.C. 552(b)(4) or is protected from disclosure pursuant to 18 U.S.C. 1905, please see the detailed instructions given under the Public Participation heading of the Supplementary Information section of this document.

Privacy Act: Please see the Privacy Act heading under the Regulatory Analyses section of this document.

FOR FURTHER INFORMATION CONTACT: You may contact Stephanie Walters by email at stephanie.walters@dot.gov or by telephone at 202-819-3642. Address: National Highway Traffic Safety Administration, U.S. Department of Transportation, 1200 New Jersey Avenue SE, West Building, Washington, DC 20590.

SUPPLEMENTARY INFORMATION:

I. Background

The National Highway Traffic Safety Administration (NHTSA), an agency within the U.S. Department of Transportation (DOT), adopted its own National Environmental Policy Act (NEPA) implementing procedures in 1975 at 49 CFR part 520 (“1975 procedures”), as directed by Executive Order (E.O.) 11514, Protection and Enhancement of Environmental Quality (35 FR 4245 (Mar. 7, 1970)), and the Council on Environmental Quality's Guidelines of April 23, 1971 (36 FR 7724). NHTSA's 1975 procedures established the initial framework for conducting NHTSA-specific environmental reviews on its rulemakings and regulatory actions.

Subsequently, E.O. 11991, Relating to Protection and Enhancement of Environmental Quality (42 FR 26967 (May 24, 1977)), amended E.O. 11514 to require the Council on Environmental Quality (CEQ) to issue binding regulations for NEPA compliance, which it did at 40 CFR parts 1500-1508 (CEQ regulations). Among other sections, 40 CFR 1500.3 stated that the CEQ regulations were applicable to and binding on all Federal agencies for implementing the procedural provisions of NEPA. Accordingly, NHTSA has followed NEPA's statutory requirements, its 1975 procedures to the extent they were previously consistent with law, and CEQ's NEPA implementing regulations to assess the environmental impacts of the agency's actions.

II. Basis for Removing the NHTSA NEPA Regulation

NHTSA has determined that it is appropriate to remove its 1975 procedures because the regulations are no longer consistent with the governing laws and orders relevant to NEPA, which have changed significantly since 1975. NHTSA's 1975 procedures were established pursuant to E.O. 11514 and CEQ's 1971 Guidelines (36 FR 7724). E.O. 11514 was amended by E.O. 11991, which has now been rescinded by E.O. 14154, Unleashing American Energy (90 FR 8353 (Jan. 29, 2025)). CEQ's 1971 Guidelines, which were the basis for CEQ's NEPA Implementing Regulations at 40 CFR parts 1500 et seq., have also been repealed. See Removal of National Environmental Policy Act Implementing Regulations, (90 FR 10610 (Feb. 25, 2025)). These circumstances raise questions concerning the legal basis for NHTSA to maintain its 1975 procedures and create a need for NHTSA, which had long relied on CEQ's regulations in administering NEPA, see supra, to modernize and update its own regulations.

Further, the Fiscal Responsibility Act of 2023 (FRA 2023), Public Law 118-5, amended NEPA to provide more detailed procedures for environmental reviews. The FRA 2023 amendments require agencies to facilitate timely and unified Federal reviews, develop a single environmental document as appropriate, and comply with page limits and deadlines. FRA 2023 also outlines guidelines for using programmatic environmental documents and a streamlined process for adopting another agency's categorical exclusions. NHTSA's 1975 procedures do not incorporate the FRA 2023 amendments that require the agency to conduct more effective and efficient environmental reviews.

E.O. 14154 instructed CEQ to provide guidance on implementing NEPA to expedite and simplify the permitting process and to meet deadlines established in FRA 2023. The E.O. also directed all agencies to prioritize efficiency and certainty over any other objectives. NHTSA's 1975 procedures do not conform with E.O. 14154, and applying those procedures would be inconsistent with the directives in E.O. 14154—to conduct environmental reviews in a timely and efficient manner.

Finally, the Supreme Court on May 29, 2025, issued Seven County Infrastructure Coalition v. Eagle County, Colorado, 145 S. Ct. 1497 (2025), in which it described the “transform[ation]” of NEPA from its roots as “a modest procedural requirement,” into a significant “substantive roadblock” that “paralyze[s]” “agency decisionmaking.” Id. at 1507, 1513 (quotations omitted). The Supreme Court explained that part of that problem had been caused by decisions of lower courts, which it rejected, issuing a “course correction” mandating that courts give “substantial deference” to an agency's reasonable conclusions underlying its NEPA process. Id. at 1513-14. But the Court also acknowledged, and through its course correction sought to address, the effect on “litigation-averse agencies” that, in light of judicial “micromanage[ment],” had been “tak[ing] ever more time and [ ] prepar[ing] ever longer EISs for future projects.” Id. at 1513. NHTSA, thus, is issuing this IFR to align its actions with the Supreme Court's decision and streamline its process of ensuring reasonable NEPA decisions.

NHTSA finds that each of the reasons stated above independently make the agency's 1975 procedures outdated and inoperative. Accordingly, NHTSA has determined that it is most appropriate to remove its 1975 procedures.

In light of recent directives and the repeal of CEQ's NEPA Implementing Regulations, DOT has updated its NEPA implementing procedures (DOT Order 5610.1D, “Departmentwide National Environmental Policy Act Implementing Procedures”) to be applicable to NHTSA and several other DOT operating administrations and which will now serve as the primary procedures for implementing NHTSA environmental reviews. Subpart D of DOT Order 5610.1D includes NHTSA-specific NEPA procedures. The action taken under this interim final rule will avoid duplication and maintain consistency with the departmentwide NEPA implementing procedures, which aid efficiency, improve the timely completion of the environmental review process, and refocus agency practice on fostering informed decisionmaking.

NHTSA acknowledges that third parties may claim to have reliance interests in NHSTA's existing NEPA procedures. But revised agency procedures will have no effect on ongoing NEPA reviews, where NHTSA, following CEQ guidance, has held it will continue to apply existing applications. Moreover, as the Supreme Court has just explained, NEPA “is a purely procedural statute” that “imposes no substantive environmental obligations or restrictions.” Seven County, 145 S. Ct. at 1507. Any asserted reliance interests grounded in substantive environmental concerns are not in accord with the best meaning of the law and are entitled to “no . . . weight.” Dep't of Homeland Sec. v. Regents of the Univ. of California, 140 S. Ct. 1891, 1914 (2020).

Because reliance interests are inherently backward-looking, it is unclear how any party could assert reliance interests in prospective procedures. To the extent such interests exist, the Court concludes that they are “outweigh[ed]” by “other interests and policy concerns.” Id. Namely, the complex web of regulations that preexisted the 2023 amendments to NEPA and the revised DOT repeatedly “led to more agency analysis of separate projects, more consideration of attenuated effects, more exploration of alternatives to proposed agency action, more speculation and consultation and estimation and litigation,” which in turn has meant that “[f]ewer projects make it to the finish line,” or even “to the starting line.” Seven County, 145 S. Ct. at 1513-14. This has increased the cost of projects dramatically, “both for the agency preparing the EIS and for the builder of the project,” resulting in systemic harms to America's infrastructure and economy. Id. at 1514. Correspondingly, the wholesale revision and simplification of this regime, effectuated by DOT's new Procedures, is necessary to assure ensure efficient and predictable reviews, with significant upsides for the economy and for projects of all sorts. This set of policy considerations drastically outweighs any claimed reliance interests in the preexisting procedures.

III. Basis for Issuing an Interim Final Rule

A. NHTSA Has Good Cause for Proceeding With an Interim Final Rule

For the reasons described in this section, NHTSA has determined that an interim final rule is the appropriate mechanism to rescind its 1975 procedures and to align with current law. This interim final rule satisfies the requirements of the Administrative Procedure Act (APA) under 5 U.S.C. 553(b)-(d). Although this interim final rule is effective immediately, comments are solicited from interested members of the public on all aspects of the interim final rule. NHTSA will consider these comments in deciding the next steps following this interim final rule.

The APA authorizes agencies to issue regulations without notice and public comment when an agency finds, for good cause, that notice and comment is “impracticable, unnecessary, or contrary to the public interest,” 5 U.S.C. 553(b)(B), and to make the rule effective immediately for good cause, 5 U.S.C. 553(d)(3).

First, notice and comment is unnecessary because this action merely rescinds procedures that are already obsolete, are inconsistent with current law, and have been replaced by departmentwide procedures, DOT Order 5610.1D, which are consistent with NEPA, as amended by FRA 2023, and E.O. 14154. In addition, DOT provides a comment opportunity for the public to address any concerns with NHTSA's revised NEPA implementing procedures at Subpart D of DOT Order 5610.1D, rendering public comment on this action duplicative. Next, prior notice and comment would be impracticable because the repeal of the 1975 procedures must take immediate effect. Current agency work is impeded because the 1975 procedures are inoperative. DOT Order 5610.1D allows such work to continue, as well as replaces the role long played by the now-repealed CEQ regulations in NHTSA's administration of NEPA. However, NHTSA's 1975 procedures must also be repealed to prevent conflicting direction regarding NHTSA's NEPA procedures, which would result in further impediments to agency function. In addition, continuing its 1975 procedures in force during the comment period would conflict with Presidential, government-wide directives and departmentwide procedures, and thus be contrary to the public interest, leading to confusion and inconsistency and resulting in delays and ambiguities during environmental reviews.

Therefore, NHTSA finds good cause to issue this interim final rule without prior notice and an opportunity for public comment. For these same reasons, NHTSA finds good cause for this rule to be effective immediately. See 5 U.S.C. 553(d)(3).

B. Notice-and-Comment Rulemaking Is Not Required for Rules of Agency Procedure

NHTSA is repealing its prior procedures and practices for implementing NEPA, a “purely procedural statute” which “`simply prescribes the necessary process' for an agency's environmental review of a project—a review that is, even in its most rigorous form, “only one input into an agency's decision and does not itself require any particular substantive outcome.” Seven County, 145 S. Ct. at 1507, 1511. “NEPA imposes no substantive constraints on the agency's ultimate decision to build, fund, or approve a proposed project,” and “is relevant only to the question of whether an agency's final decision—i.e., that decision to authorize, fund, or otherwise carry out a particular proposed project or activity—“was reasonably explained.” Id. at 1511. As such, notice-and-comment procedures are not required because this revision falls within the Administrative Procedure Act (APA) exception for “rules of agency organization, procedure, or practice.” 5 U.S.C. 553(b)(A). NHTSA's existing regulations do not dictate what outcomes such consideration must produce, nor do they impose binding legal obligations on private citizens. Rather, they prescribe how NHTSA will conduct its NEPA reviews: detailing the structure of environmental impact statements, specifying submission requirements, and directing the timing of public comment periods. These are procedural provisions, not ones that impose substantive environmental obligations or restrictions. Thus, because procedural rules do not require notice and comment, they do not require notice and comment to be removed from the Code of Federal Regulations. See 5 U.S.C. 553(b)(A).

Moreover, even if (and to the extent that) NHTSA's regulations were not procedural rules, they may be characterized as interpretative rules or general statements of policy under 5 U.S.C. 553(b)(A). An interpretative rule provides an interpretation of a statute, rather than make discretionary policy choices that establish enforceable rights or obligations for regulated parties under delegated congressional authority. General statements of policy provide notice of an agency's intentions as to how it will enforce statutory requirements, again without creating enforceable rights or obligations for regulated parties under delegated congressional authority. Both of these types of agency action are expressly exempted from notice and comment by statute, 5 U.S.C. 553(b)(A), and do not require notice and comment for their removal.

IV. Request for Comment

As explained in section III of this document, the APA authorizes NHTSA to take this interim final action without prior notice or opportunity for public comment. However, NHTSA is providing an opportunity for comment on this interim final rule for 30 days after this action's publication date, and may make further revisions should its review of any comments submitted suggest that further revisions are warranted. Any comments related to NHTSA's revised NEPA implementing procedures should be directed to the docket for DOT's Federal Register notice for the DOT Order 5610.1D.

V. Regulatory Analyses

Executive Order 12866

This rule is a “significant regulatory action” under E.O. 12866, Regulatory Planning and Review (58 FR 51735 (Oct. 4, 1993)). Therefore, the Office of Management and Budget (OMB) has reviewed this rule under that Executive Order.

Executive Order 14192

E.O. 14192, Unleashing Prosperity Through Deregulation (90 FR 9065 (Jan. 31, 2025)), requires that for “each new [E.O. 14192 regulatory action] issued, at least ten prior regulations be identified for elimination.” Implementation guidance for E.O. 14192 issued by OMB (Memorandum M-25-20 (Mar. 26, 2025)) defines an E.O. 14192 deregulatory action as “an action that has been finalized and has total costs less than zero.” This interim final rule, rescinding NHTSA's outdated NEPA regulations, will have minor cost savings that cannot be quantified. By removing obsolete regulatory text, this rule will remove any confusion or inconsistencies regarding NHTSA's NEPA procedures. Therefore, this interim final rule is an E.O. 14192 deregulatory action.

Regulatory Flexibility Act

Under the Regulatory Flexibility Act (RFA) (5 U.S.C. 601-612) (as amended by the Small Business Regulatory Enforcement Fairness Act (SBREFA) of 1996; 5 U.S.C. 601 et seq.), whenever a rule is required to be published for public comment, agencies must prepare and make available for public comment a regulatory flexibility analysis that describes the effect of the rule on small entities (i.e., small businesses, small organizations, and small government jurisdictions). Because NHTSA was not required to provide public notice and prior opportunity for comment on this rule, the analytical requirements of the RFA do not apply. In addition, NHTSA has concluded that this rule will not have a significant economic impact on a substantial number of small entities because the rule only removes requirements that are no longer applicable or needed.

Unfunded Mandates Reform Act

This rule does not contain Federal mandates (under the regulatory provisions of Title II of the UMRA) for State, local and Tribal governments, or the private sector of $100 million or more in any one year. Thus, the rule is not subject to the requirements of sections 202 and 205 of the UMRA.

Executive Order 13175

Executive Order 13175 requires Federal agencies to consult and coordinate with Tribes on a government-to-government basis on policies that have Tribal implications, including regulations, legislative comments or proposed legislation, and other policy statements or actions that have substantial direct effects on one or more Indian Tribes, on the relationship between the Federal Government and Indian Tribes, or on the distribution of power and responsibilities between the Federal Government and Indian Tribes. NHTSA has assessed the impact of this rule on Indian tribes and determined that this rule would not have tribal implications that require consultation under Executive Order 13175.

Paperwork Reduction Act

In accordance with the Paperwork Reduction Act of 1995 (44 U.S.C. 3501-3520), an agency may not conduct or sponsor, and a person is not required to respond to, a collection of information, unless the collection displays a currently valid Office of Management and Budget (OMB) control number. This rule would not impose any information collection requirements subject to approval by OMB.

Executive Order 13132; Federalism Summary Impact Statement

NHTSA has examined this proposed rule pursuant to Executive Order 13132 (64 FR 43255; Aug. 10, 1999) and concluded that no additional consultation with States, local governments, or their representatives is mandated beyond the rulemaking process. The agency has concluded that the rule does not have sufficient federalism implications to warrant consultation with State and local officials or the preparation of a federalism summary impact statement. The rule does not have “substantial direct effects on the States, on the relationship between the national government and the States, or on the distribution of power and responsibilities among the various levels of government.”

National Environmental Policy Act

NHTSA believes this interim final rule, if finalized, would not have a reasonably foreseeable significant effect on the quality of the human environment because it will not authorize any specific agency activity or commit resources to a project that may affect the environment. Therefore, NHTSA does not intend to conduct a NEPA analysis of this interim final rule.

Executive Order 12988 (Civil Justice Reform)

With respect to the review of the promulgation of a new regulation, section 3(b) of Executive Order 12988, “Civil Justice Reform” (61 FR 4729, February 7, 1996) requires that Executive agencies make every reasonable effort to ensure that the regulation: (1) specifies clearly the preemptive effect; (2) specifies clearly the effect on existing Federal law or regulation; (3) provides a clear legal standard for affected conduct, while promoting simplification and burden reduction; (4) specifies clearly the retroactive effect, if any; (5) defines key terms adequately; and (6) addresses other important issues affecting clarity and general draftsmanship under any guidelines issued by the Attorney General. This document is consistent with that requirement.

Pursuant to this Order, NHTSA notes as follows. This rule has no preemptive effect. It relates only to the removal of procedures related to a program that has expired. NHTSA notes further that there is no requirement that individuals submit a petition for reconsideration or pursue other administrative proceeding before they may file suit in court.

Plain Language

E.O. 12866 and E.O. 13563 require each agency to write all rules in plain language. Application of the principles of plain language includes consideration of the following questions:

• Have we organized the material to suit the public's needs?

• Are the requirements in the rule stated clearly?

• Does the rule contain technical language or jargon that is not clear?

• Would a different format (grouping and order of sections, use of headings, paragraphing) make the rule easier to understand?

• Would more (but shorter) sections be better?

• Could we improve clarity by adding tables, lists, or diagrams?

• What else could we do to make the rule easier to understand?

If you have any responses to these questions, please include them in your comments on this interim final rule.

Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Privacy Act

Although not required by the APA, DOT solicits comments from the public to better inform this rulemaking process. DOT will post these comments, without edit, to www.regulations.gov, as described in the system of records notice, DOT/ALL-14 FDMS, accessible through www.dot.gov/privacy. In order to facilitate comment tracking and response, we encourage commenters to provide their name, or the name of their organization; however, submission of names is optional. Anyone is able to search the electronic form of all comments received into any of our dockets by the name of the individual submitting the comment (or signing the comment, if submitted on behalf of an association, business, labor union, etc.). For information on DOT's compliance with the Privacy Act, see DOT's website at DOT Privacy Program | US Department of Transportation.

Congressional Review Act

As required by 5 U.S.C. 801, NHTSA will submit to Congress a report regarding the issuance of this interim final rule prior to the effective date set forth at the outset of this interim final rule. The report will state that it has been determined that this interim final rule is not a “major rule” as defined by 5 U.S.C. 804(2).

Public Participation

How do I prepare and submit comments?

Your comments must be written and in English. To ensure that your comments are filed correctly in the Docket, please include the docket number indicated in this document in your comments.

Your comments must not be more than 15 pages long. (49 CFR 553.21). We established this limit to encourage you to write your primary comments in a concise fashion. However, you may attach necessary additional documents to your comments. There is no limit on the length of the attachments.

If you are submitting comments electronically as a PDF (Adobe) file, NHTSA asks that the documents be submitted using the Optical Character Recognition (OCR) process, thus allowing NHTSA to search and copy certain portions of your submissions. Please note that pursuant to the Data Quality Act, for substantive data to be relied upon and used by the agency, it must meet the information quality standards set forth in the OMB and DOT Data Quality Act guidelines. Accordingly, we encourage you to consult the guidelines in preparing your comments. OMB's guidelines may be accessed at https://www.transportation.gov/regulations/dot-information-dissemination-quality-guidelines.

How can I be sure that my comments were received?

If you wish the Docket to notify you upon its receipt of your comments, enclose a self-addressed, stamped postcard in the envelope containing your comments. Upon receiving your comments, the Docket will return the postcard by mail.

How do I submit confidential business information?

You should submit a redacted “public version” of your comment (including redacted versions of any additional documents or attachments) to the docket using any of the methods identified under ADDRESSES. This “public version” of your comment should contain only the portions for which no claim of confidential treatment is made and from which those portions for which confidential treatment is claimed has been redacted. See below for further instructions on how to do this.

You also need to submit a request for confidential treatment directly to the Office of Chief Counsel. Requests for confidential treatment are governed by 49 CFR part 512. Your request must set forth the information specified in part 512. This includes the materials for which confidentiality is being requested (as explained in more detail below); supporting information, pursuant to § 512.8; and a certificate, pursuant to § 512.4(b) and part 512, appendix A.

You are required to submit to the Office of Chief Counsel one unredacted “confidential version” of the information for which you are seeking confidential treatment. Pursuant to § 512.6, the words “ENTIRE PAGE CONFIDENTIAL BUSINESS INFORMATION” or “CONFIDENTIAL BUSINESS INFORMATION CONTAINED WITHIN BRACKETS” (as applicable) must appear at the top of each page containing information claimed to be confidential. In the latter situation, where not all information on the page is claimed to be confidential, identify each item of information for which confidentiality is requested within brackets: “[ ].”

You are also required to submit to the Office of Chief Counsel one redacted “public version” of the information for which you are seeking confidential treatment. Pursuant to § 512.5(a)(2), the redacted “public version” should include redactions of any information for which you are seeking confidential treatment (i.e., the only information that should be unredacted is information for which you are not seeking confidential treatment).

NHTSA is currently treating electronic submission as an acceptable method for submitting confidential business information to the agency under part 512. Please do not send a hardcopy of a request for confidential treatment to NHTSA's headquarters. The request should be sent to Dan Rabinovitz in the Office of the Chief Counsel at Daniel.Rabinovitz@dot.gov. You may either submit your request via email or request a secure file transfer link.

Will the agency consider late comments?

We will consider all comments received before the close of business on the comment closing date indicated above under DATES. To the extent possible, we will also consider comments that the docket receives after that date. If the docket receives a comment too late for us to consider in developing a final rule (assuming that one is issued), we will consider that comment as an informal suggestion for future rulemaking action.

How can I read the comments submitted by other people?

You may read the comments received by the docket at the address given above under ADDRESSES. The hours of the docket are indicated above in the same location. You may also see the comments on the internet. To read the comments on the internet, go to https://www.regulations.gov. Follow the online instructions for accessing the dockets.

Please note that even after the comment closing date, we will continue to file relevant information in the docket as it becomes available. Further, some people may submit late comments. Accordingly, we recommend that you periodically check the Docket for new material. You can arrange with the docket to be notified when others file comments in the docket. See www.regulations.gov for more information.

List of Subjects in 49 CFR Part 520

Environmental impact statements.

PART 520—[REMOVED AND RESERVED]

For the reasons stated in the preamble, under the authority of 49 CFR 1.95, 501.4, and 501.5, NHTSA removes and reserves 49 CFR part 520.

Peter Simshauser,
Chief Counsel.

[FR Doc. 2025-12363 Filed 7-1-25; 2:30 pm]

BILLING CODE 4910-59-P